DEPARTMENT OF COMMERCE

National Oceanic and Atmospheric Administration

Agency Information Collection Activities; Submission to the Office of Management and Budget (OMB) for Review and Approval; Comment Request; Fisheries Certificate of Origin

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 25, 2022.

ADDRESSES: Interested persons are invited to submit written comments to Adrienne Thomas, NOAA PRA Officer, at NOAA.PRA@noaa.gov. Please reference OMB Control Number 0648-0335 in the subject line of your comments. Do not submit Confidential Business Information or otherwise sensitive or protected information.

FOR FURTHER INFORMATION CONTACT: Requests for additional information or specific questions related to collection activities should be directed to Jessica Short, Scientist—TTVP Support, National Marine Fisheries Service (NMFS), West Coast Region (WCR), 501 West Ocean Boulevard, Suite 4200, Long Beach, CA 90802, (562) 980-4035 or jessica.short@noaa.gov.

SUPPLEMENTARY INFORMATION:

I. Abstract

This request is for an extension of a current information collection sponsored by NMFS' WCR. The information required by the International Dolphin Conservation Program Act, amendment to the Marine Mammal Protection Act, is needed to: (1) Document the dolphin-safe status of tuna import shipments; (2) verify that import shipments of fish were not harvested by large-scale, high seas driftnets; and (3) verify that tuna was not harvested by an embargoed nation or one that is otherwise prohibited from exporting tuna to the United States. Collected information includes the U.S. Customs and Border Protection Entry Identification, date of entry, and contact details on the exporting and importing companies.

Collected information also includes harvest characteristics such as fishing vessel name, fishing trip dates, vessel flag, vessel gear type, and ocean area of harvest, as well as the declaration of the dolphin safe status of the shipment, and if applicable, the attachment of required certifications. Forms are submitted by importers and processors. NMFS uses this information to verify the dolphin-safe status of tuna shipments.

II. Method of Collection

Importing respondents are required to submit the form electronically to U.S. Customs and Border Protection before or at the time of importation via the Automated Commercial Environment as per regulations at 50 CFR 216.24(f)(2). Domestic processors typically submit the forms monthly via email as per regulations at 50 CFR 216.93(d)(2).

III. Data

OMB Control Number: 0648-0335.

Form Number(s): NOAA Form 370.

Type of Review: Regular submission, extension of a current information collection.

Affected Public: Business or other for-profit organizations.

Estimated Number of Respondents: 540.

Estimated Time per Response: 25 minutes.

Estimated Total Annual Burden Hours: 5,833.

Estimated Total Annual Cost to Public: $0.

Respondent's Obligation: Mandatory.

Legal Authority: Marine Mammal Protection Act (16 U.S.C. 1361 et seq.) and the Dolphin Protection Consumer Information Act (16 U.S.C. 1385).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-01253 Filed 1-21-22; 8:45 am]

BILLING CODE 3510-22-P